DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, July 11, 2018, 01:00 p.m. to July 11, 2018, 04:00 p.m., National Institutes of Health, 6710 B Rockledge Drive, Bethesda, MD, 20892 which was published in the Federal Register on June 12, 2018, 83 248540 27338.

The meeting date has changed from July 11, 2018, 1:00 p.m. to 4:00 p.m. to August 14, 2018, 1:00 p.m. to 4:00 p.m. The meeting is closed to the public.

Dated: June 29, 2018.
Michelle D. Trout,
Program Analyst, Office of Federal Advisory Committee Policy.

[FR Doc. 2018-14454 Filed 7-5-18; 8:45 am]

BILLING CODE 4140-01-P